DEPARTMENT OF THE INTERIOR

Fish and Wildlife Service

Availability of Final Comprehensive Conservation Plan for Arapaho National Wildlife Refuge, Walden, CO

AGENCY: Fish and Wildlife Service, Interior.

ACTION: Notice of availability.

SUMMARY: The U.S. Fish and Wildlife Service announces that a Comprehensive Conservation Plan (CCP) and Summary for Arapaho National Wildlife Refuge is available. This CCP, prepared pursuant to the National Wildlife Refuge System Improvement Act of 1997 and the National Environmental Policy Act of 1969, describes how the U.S. Fish and Wildlife Service intends to manage this Refuge for the next 15 years.

ADDRESSES: A copy of the Plan or Summary may be obtained by writing to U.S. Fish and Wildlife Service, Arapaho National Wildlife Refuge, P.O. Box 457, 953 Jackson County Road #32, Walden, Colorado 80480-0457; or download from http://mountain-prairie.fws.gov/planning.

FOR FURTHER INFORMATION CONTACT: Ann Timberman, Project Leader, U.S. Fish and Wildlife Service, Arapaho National Wildlife Refuge, P.O. Box 457, 953 Jackson County Road #32, Walden, Colorado 80480-0457. Phone 970-723-8202; fax 970-723-8528; or e-mail: ann_timberman@fws.gov.

SUPPLEMENTARY INFORMATION:

Background

Arapaho National Wildlife Refuge (NWR), comprised of 23,243 acres, is long and narrow and is nearly bisected throughout its length by the Illinois River, within the headwaters of the North Platte River basin, in Jackson County, northern Colorado. The Refuge is situated in a high valley locally known as North Park where the native upland plant community is dominated by sagebrush and grasses, and bottomland plant associations include grassy wet meadows and willow-dominated riparian habitats, as well as natural and man-made wetlands. Over 250 species of birds, mammals, reptiles, amphibians, and fishes utilize, occur at, or migrate through this Refuge as well as over 390 species of plants, including one federally endangered species endemic only to North Park. Arapaho NWR was established by Congress in 1967 with two purposes: “* * * for uses as an inviolate sanctuary, or for any other management purpose, for migratory birds (Migratory Bird Conservation Act); and “* * * for the development, advancement, management, conservation, and protection of fish and wildlife resources * * *” and “* * * for the benefit of the United States Fish and Wildlife Service, in performing its activities and services.”

The availability of the Draft CCP and Environmental Assessment (EA) for 30-day public review and comment was announced in the Federal Register on August 13, 2003, in Volume 68, Number 156. The Draft CCP/EA identified and evaluated four alternatives for managing Arapaho NWR for the next 15 years. Alternative 1, the No Action Alternative, would have continued current management of the Refuge. Alternative 4 (Preferred Alternative) emphasizes achieving the biological potential of the Refuge through restoration of riparian habitat functions, enhancement and protection of wet meadow and wetland habitats and research on upland sage-steppe habitats within the Refuge as well as promoting partnerships and cooperating with other agencies and groups to enhance wildlife-dependent activities throughout North Park. Alternative 2 would have emphasized working on achieving the purposes of the Refuge through activities at the North Park landscape level while Alternative 3 would have maximized wildlife benefits by focusing on habitat restoration, enhancement and protection and de-emphasizing public use opportunities at the Refuge.

Based on this assessment and comments received, the Preferred Alternative 4 was selected for implementation. The preferred alternative was selected because it best meets the purposes and goals of the Refuge, as well as the goals of the National Wildlife Refuge System. The preferred alternative will also benefit prairie dogs, large ungulates, shore birds, migrating and nesting waterfowl, and neotropical migrants, as well as improvements in water quality from riparian habitat restoration. Environmental education and partnerships will result in improved wildlife-dependent recreational opportunities throughout North Park. Cultural and historical resources will be protected.

Dated: August 11, 2004.
John A. Blankenship,
Regional Director, Region 6, Denver, Colorado.

[FR Doc. 04-22045 Filed 9-30-04; 8:45 am]

BILLING CODE 4310-55-P